DEPARTMENT OF AGRICULTURE

Forest Service

Helena National Forest, Broadwater County, MT, Cabin Gulch Vegetation Treatment Project

AGENCY: Forest Service, USDA.

ACTION: Notice of intent to prepare an Environmental Impact Statement (EIS).

SUMMARY: The Helena National Forest is going to prepare an environmental impact statement for vegetation management actions in the Cabin Gulch and North Fork of Deep Creek drainages. The purpose and need for action is to restore and maintain the health of these fire dependent ecosystems, including increasing the resistance and resilience of these areas to catastrophic disturbance from fire events and/or disease and insect outbreaks. In addition to the vegetation actions, some roadwork is proposed to reduce sedimentation sources to the West Fork of Cabin Gulch; one road is proposed for closure; and one new road is being proposed for construction.

DATES: Comments concerning the proposed action must be received by January 9, 2006. The draft EIS is expected to be available to the public in March of 2006 and the final EIS is expected to be available to the public in June of 2006.

ADDRESSES: Send written comments or for further information, mail correspondence to or call Sharon Scott—Team Leader, Helena Ranger District, 2001 Poplar Street, Helena, MT 59601 (Phone 406.449.5490), or Dave Carroll, NEPA Coordinator, 2880 Skyway Drive, Helena, MT 59601 (Phone 406.449.5201).

SUPPLEMENTARY INFORMATION:

Purpose and Need for Action

Most of Montana has been under drought conditions for the past 7 years. Insect and disease problems are impacting this area. The Helena National Forest has identified a need to improve the forest health of this area. Since fires have been suppressed and controlled in this area, the number of small trees in the dry forest types (lower elevation, south and west facing slopes) has greatly increased. This has created a need to reduce current and future fuel buildup throughout the area. Douglas-fir are being killed by the Douglas-fir bark beetle, and Lodgepole pine and whitebark pine are being killed by the mountain pine beetle. The whitebark pine is also being killed by white pine blister rust. Aspen stands and grassland/sagebrush areas are declining on the landscape. There is also an opportunity for a research study involving Douglas-fir and prescribed fire. The purpose and need for action is to restore and maintain the health of these fire dependent ecosystems, including increasing the resistance and resilience of these areas to catastrophic disturbance from fire events and/or disease and insect outbreaks. Also, the West Fork of Cabin Gulch road is directly contributing sediment to the creek, and needs corrective action.

Proposed Action

The types of treatments being proposed are thinnings; patch cuts; reduction of encroaching species on the whitebark pine and aspen stands; reclamation of sagebrush and grassland meadows; prescribed fire; and road decommisioning and construction. The harvest of green trees and salvage of dead and dying trees are part of this proposal. These actions are consistent with the Forest Plan Management Area direction for the area. A project in conjunction with research scientists from the Rocky Mountain Research Station and entomologists from the Forest Health Protection office of the Regional Office is another important part of our proposal. The research project will evaluate the effects of silvicultural thinnings and prescribed fire and the resultant impact of the residual stand/trees susceptibility to Douglas-fir beetle activity.

To accomplish these actions we envision the use of the following activities: Commercial timber harvest (removing wood as a forest product), slashing (cutting trees that aren't valuable as a product and leaving them on site), burning (burning encompasses underburning, and mixed severity burning), and using equipment to “chew up” small trees and juniper (the piece of equipment is called a masticator). The logging systems being considered include cable or skyline logging, tractor logging and helicopter logging. This proposal includes 9 miles of temporary road. Those roads would be fully recontoured following this project.

Specifics of the Proposed Action Are: Thinning 2,100 acres; Patch cutting 325 acres; Douglas-fir thinning and prescribed fire research 550 acres; Whitebark Pine Restoration 100 acres; Aspen Restoration 100 acres; Grassland/Shrubland Reclaimation 375 acres.

Underburning: This will be primarily on the acres listed in the above components of the proposed action.

Mixed severity burn: 475 acres.

We are also proposing to close the West Fork of Cabin Gulch road by recontouring the road (approximately 3 miles). We are proposing to build a permanent road, 0.6 miles in length, that would allow people to access the upper portion of the West Fork of Cabin Gulch from the North Fork of Deep Creek.

Responsible Official: Kevin Riordan—Forest Supervisor, 2880 Skyway Drive, Helena, MT 59601.

Nature of Decision To Be Made

The nature of the decision is: Whether or not to implement the proposed action or an alternative to the proposed action that addresses the purpose and need for action. The following components define the nature of the decision at this point: Which treatment areas have the greatest benefit in increasing the areas' resistance and resilience to catastrophic disurbances such as wildfire or insect and disease outbreaks; Which areas may be of interest from a research perspective relative to fire and Douglas-fir bark beetle activity; and Whether or not Forest Plan amendment(s) are required? At this point in time it appears there may need to be a site specific, Forest Plan amendment relative to big game hiding cover.

Scoping Process

• Scoping Package (mailing)—November 2005.

• Scoping Meeting—December 2005 in Townsend, MT.

• NOI—December 9, 2005.

• Post on Web site—December 2005.

• DEIS Public Meetings—April 2006.

• DEIS Comment Period—March-April, 2006.

• FEIS and ROD—June 2006.

Comment Requested

This notice of intent initiates the scoping process which guides the development of the environmental impact statement. Comments are due by January 9, 2006.

A draft environmental impact statement will be prepared for comment. The comment period on the draft EIS is expected to be from mid-March through April of 2006. This date will be established when the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the [enter correct time period] comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: November 29, 2005.
Kevin Riordan,
Forest Supervisor.

[FR Doc. 05-23605 Filed 12-5-05; 8:45 am]

BILLING CODE 3410-11-P